OFFICE OF THE UNITED STATES TRADE REPRESENTATIVE

Update on Public Dialogue on Enhancing the Transatlantic Economic Relationship

AGENCY: Office of the United States Trade Representative.

ACTION: Update for the public.

Background

In Federal Register notice 04-18716, dated August 17, 2004, the Office of the U.S. Trade Representative sought public input on ideas for deepening transatlantic economic ties and requested that written comments be submitted no later than November 15, 2004. In view of the fact that further public dialogue sessions are being organized for later this year, the deadline for submission of written comments is being extended to December 31, 2004. Electronic submissions should continue to be sent to FR0438@ustr.eop.gov; please refer to the previous Federal Register notice, referenced above, for details on making such submissions.

The public is advised to call Lisa Errion, Director for Central and Southeast Europe, Office of the U.S. Trade Representative at (202) 395-3320 for further information.

Catherine A. Novelli,
Assistant United States Trade Representative for Europe and the Mediterranean.

[FR Doc. 04-24948 Filed 11-8-04; 8:45 am]

BILLING CODE 3190-W4-P